DEPARTMENT OF HEALTH AND HUMAN SERVICES

Administration for Children and Families

Proposed Information Collection Activity; Head Start Grant Application (Office of Management and Budget #0970-0207)

AGENCY: Office of Head Start, Administration for Children and Families, U.S. Department of Health and Human Services.

ACTION: Request for public comments.

SUMMARY: The Administration for Children and Families (ACF) is requesting a 3-year extension of the Grant Application Instrument and Instructions (Office of Management and Budget #0970-0207, expiration June 30, 2025). The updated grant application reduces the amount of documentation required from grant recipients, both in the baseline application and the continuation application, by reducing the number of required documents to support the application and reducing the amount of required information in the program and budget justification narrative. The goal of these changes is to reduce grant recipient burden.

DATES: Comments due July 14, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: To receive Head Start funding, Head Start grant recipients must apply for such funds through this information collection. The information submitted by applicants assist program and grant officials in determining whether the applicant meets the requirements for funding under the Act including any requirements specified in annual appropriations by Congress. The updated grant application reduces the amount of documentation required from grant recipients, both in the baseline application and the continuation application, by reducing the number of required documents to support the application and reducing the amount of required information in the program and budget justification narrative. The goal of these changes is to reduce grant recipient burden, and the burden estimates below have been updated to reflect this.

Respondents: Head Start Grant Recipients.

Annual Burden Estimates
Instrument | Total number of respondents | Annual number of responses per respondent | Average burden hours per response | Annual burden hours
Head Start Grant Application | 1,600 | 2 | 20 | 64,000

Comments: ACF specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9801 et seq.

Mary C. Jones,
ACF/OPRE Certifying Officer.

[FR Doc. 2025-08622 Filed 5-14-25; 8:45 am]

BILLING CODE 4184-40-P